DEPARTMENT OF LABOR

Employment and Training Administration

[TA-W-70,380]

Americas Styrenics, LLC-Marietta Plant a Subsidiary of Americas Styrenics, LLLC Formerly Known as Chevron Phillips Chemical Co. LP Including On-Site Leased Workers From Pioneer Pipe Co.: Marietta, OH; Amended Certification Regarding Eligibility To Apply for Worker Adjustment Assistance

In accordance with Section 223 of the Trade Act of 1974, as amended (“Act”), 19 U.S.C. 2273, the Department of Labor issued a Certification of Eligibility to Apply for Worker Adjustment Assistance on November 19, 2009, applicable to workers of Americas Styrenics LLC-Marietta plant, a subsidiary of Americas Styrenics LLC, including on-site leased workers from Pioneer Pipe Co., Marietta, Ohio. The notice was published in the Federal Register on January 25, 2010 (75 FR 3937).

At the request of the State agency, the Department reviewed the certification for workers of the subject firm. The workers are engaged in the production of styrene monomer and polystyrene pellets.

Information shows that Americas Styrenics LLC-Marietta Plant was formerly known as Chevron Phillips Chemical Co. LP. Some workers separated from employment at the subject firm had their wages reported under a separate unemployment insurance (UI) tax accounts for Chevron Phillips Chemical Co. LP.

Accordingly, the Department is amending this certification to properly reflect this matter.

The intent of the Department's certification is to include all workers of the subject firm who were adversely affected by increased customer imports of styrene monomer and polystyrene pellets.

The amended notice applicable to TA-W-70,380 is hereby issued as follows:

All workers of Americas Styrenics LLC-Marietta Plant, a subsidiary of Americas Styrenics LLC, formerly known as Chevron Phillips Chemical Co LP, including on-site leased workers from Pioneer Pipe Co., Marietta, Ohio, who became totally or partially separated from employment on or after May 20, 2008 through two years from the date of certification, are eligible to apply for adjustment assistance under Chapter 2 of Title II of the Trade Act of 1974, as amended.

Signed at Washington, DC, this 27th day of January 2010.
Elliott S. Kushner,
Certifying Officer, Division of Trade Adjustment Assistance.

[FR Doc. 2010-4243 Filed 3-1-10; 8:45 am]

BILLING CODE 4510-FN-P